DEPARTMENT OF THE INTERIOR

Fish and Wildlife Service

Information Collection To Be Submitted to the Office of Management and Budget (OMB) for Approval Under the Paperwork Reduction Act

AGENCY: Fish and Wildlife Service, Interior.

ACTION: Notice; request for comments.

SUMMARY: The U.S. Fish and Wildlife Service will submit a request for approval of a collection of information to OMB under the provisions of the Paperwork Reduction Act. A copy of the information collection requirement is included in this notice. If you wish to obtain copies of the proposed information collection requirement, related forms, and explanatory material, contact the Service Information Collection Clearance Officer at the address listed below.

DATES: You must submit comments on or before February 20, 2001.

ADDRESSES: Send your comments on the requirement to the Information Collection Clearance Officer, U.S. Fish and Wildlife Service, 4401 North Fairfax Drive, Mail Stop 222-ARLSQ, Arlington, Virginia 22203.

FOR FURTHER INFORMATION CONTACT: To request a copy of the information collection approval request, explanatory information and related forms, contact Rebecca A. Mullin at (703) 358-2287, or electronically at rmullin@fws.gov.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities (see 5 CFR 1320.8(d)). The U.S. Fish and Wildlife Service (We) plans to submit a request to OMB to renew its existing approval of the collection of information for Threatened and Endangered Species Permit Applications, which expires on February 28, 2001. We are requesting a 3-year term of approval for this information collection activity.

Federal agencies may not conduct or sponsor, and a person is not required to respond to, a collection of information unless it displays a currently valid OMB control number. The OMB control number for this collection of information is 1018-0094.

The information collection requirements in this submission implement the regulatory requirements of the Endangered Species Act (16 U.S.C. 1539), the Migratory Bird Treaty Act (16 U.S.C. 704), the Lacey Act (18 U.S.C. 42-44), the Bald Eagle Protection Act (16 U.S.C. 668), and the Marine Mammal Protection Act (16 U.S.C. 1374) contained in Service regulations in Chapter I, Subchapter B of Title 50 of the Code of Federal Regulations (CFR).

Previously, common permit application and recordkeeping requirements were consolidated in 50 CFR part 13, and unique requirements of the various statutes in separate parts as identified below. The Service redesigned the standard license/permit application form 3-200 to assist persons in applying for Service permits issued under Subchapter B. Under the present clearance, the Service consolidated all requirements in one submission, and they were assigned OMB Approval Number 1018-0022, the Federal Fish and Wildlife License/Permit and Related Reports. In an attempt to make the application process more “user friendly,” and to aid the public in commenting on specific license/permit requirements without having to comment on the entire package, similar types of permits were previously grouped together and numbered. The application to apply for Service permits issued under Subchapter B of 50 CFR, still requires the completion of the Service form 3-200, which has been revised and renumbered and is now Service form 3-200-1. In addition to the permit application (Service form 3-200-1), attachments are often necessary to provide additional information required for each specific type of permit, and these attachments have been assigned numbers, (e.g., 3-200-54). The information to be supplied on the application form and the attachments will be used to review the application and allow the Service to make decisions, according to criteria established in various Federal wildlife conservation statutes and regulations on the issuance, suspension, revocation, or denial of permits. The obligation to respond is, “required to obtain a benefit.” An agency may not conduct or sponsor a collection of information unless the collection of information displays a currently valid OMB control number. We have revised the following requirements, and they are included in this submission:

1. Title: Native Endangered and Threatened Species—Enhancement of Survival Permits associated with Safe Harbor Agreements, and Candidate Conservation Agreements with Assurances.

Approval Number: 1018-0094.

Service Form Number: 3-200-54.

Frequency of Collection: Annually.

Description of Respondents: Individuals, households, businesses, State agencies, private organizations.

Total Annual Burden Hours: The reporting burden is estimated to average 2.5 hours per respondent for the application and 5 hours per respondent for the annual report of permitted activities. The Total Annual Burden hours is 125 hours for the application and 750 hours for the annual report on the permitted activities.

Total Annual Responses: The number of respondents is estimated to average 50 respondents for the application and 150 for the annual report of the permitted activities.

The Endangered Species Act (ESA) provides a number of exceptions to its prohibitions against “take” of listed species. Regulations have been promulgated at 50 CFR 17.22 (endangered species) and 17.32 (threatened species) to guide implementation of these exceptions to the “take” prohibitions through permitting programs. Service form number 3-200-54 addresses application requirements for permits for Enhancement of Survival permits associated with Safe Harbor Agreements and Candidate Conservation Agreements with assurances. The permittee is required to notify the Service of any transfer of lands subject to the Safe Harbor Agreement so that any landowners may be offered the opportunity to continue the actions which the original landowner agreed to and thus he or she may be offered the same regulatory assurances. A major incentive for landowner participation in the Safe Harbor program is the long-term certainty the program provides, including the certainty that the take authorization will stay with the land when it changes hands. The Service also requires the permittee/landowner to notify the Service as far in advance as possible when he or she expects to take any species covered under the permit and provide the Service with an opportunity to translocate affected individual specimens if possible and appropriate.

2. Title: Native Endangered and Threatened Species—Permits for Scientific Purposes, Enhancement of Propagation or Survival (i.e., Recovery Permits) and Interstate Commerce.

Approval Number: 1018-0094.

Service Form Number: 3-200-55.

Frequency of Collection: Annually.

Description of Respondents: Individuals, scientific and research institutions.

Total Annual Burden Hours: The reporting burden is estimated to average 2 hours per respondent for the application and 2 hours per respondent for the annual report on the permitted activities. The Total Annual Burden hours is 1,050 hours for the application and 200 hours for the annual report on the permitted activities.

Total Annual Responses: The number of respondents is estimated to average 525 respondents for the application and 100 respondents for the annual report of the permitted activities.

Form number 3-200-55 addresses application and reporting information requirements for Recovery and Interstate Commerce permits under Section 10(a)(1)(A) of the ESA. Recovery permits allow “take” of listed species as part of scientific research and management actions, enhancement of propagation or survival, zoological exhibition, educational purposes, or special purposes consistent with the ESA designed to benefit the species involved. Interstate Commerce permits allow transport and sale of listed species across State lines as part of breeding programs enhancing the survival of the species. Detailed descriptions of the proposed taking, its necessities for success of the proposed action, and benefits to the species resulting from the proposed action are required under the implementing regulations cited above. Take authorized under this permit program would otherwise be prohibited by the ESA.

3. Title: Native Endangered and Threatened Species—Incidental Take Permits Associated With a Habitat Conservation Plan.

Approval Number: 1018-0094.

Service Form Number: 3-200-56.

Frequency of Collection: Annually.

Description of Respondents: Individuals, households, businesses, local and State agencies.

Total Annual Burden Hours: The reporting burden is estimated to average 2.5 hours per respondent for the application and 5 hours per respondent for the annual report on the permitted activities. The Total Annual Burden hours is 250 hours for the application and 1,750 hours for the annual report on the permitted activities.

Total Annual Responses: The number of respondents is estimated to be 100 respondents for the application and 350 respondents for the annual report of the permitted activities.

Form number 3-200-56 addresses applications and reporting requirements for Incidental Take Permits under section 10(a)(1)(B) of the ESA. These permits allow “take” of listed species that is incidental to otherwise lawful non-federal actions. Take authorized under this permit program would otherwise be prohibited by the ESA.

We invite comments concerning this renewal on: (1) Whether the collection of information is necessary for the proper performance of our endangered and threatened species management functions, including whether the information will have practical utility; (2) the accuracy of our estimate of the burden of the collection of information; (3) ways to enhance the quality, utility, and clarity of the information to be collected; and, (4) ways to minimize the burden of the collection of information on respondents. The information collections in this program are part of a system of records covered by the Privacy Act (5 U.S.C. 552(a)).

Dated: December 15, 2000.
Gary D. Frazer,
Assistant Director for Endangered Species.

[FR Doc. 00-32542 Filed 12-20-00; 8:45 am]

BILLING CODE 4310-55-P